DEPARTMENT OF COMMERCE

Notice of Availability of Final Programmatic Environmental Assessment for Modernization and Expansion of Existing Semiconductor Fabrication Facilities Under the CHIPS Incentives Program

AGENCY: National Institute of Standards and Technology, Department of Commerce.

ACTION: Notice; availability of a Final Programmatic Environmental Assessment and finding of no significant impact.

SUMMARY: The National Institute of Standards and Technology (NIST) announces the availability of the Final Programmatic Environmental Assessment (PEA) and finding of no significant impact (FONSI) for the modernization and expansion of existing semiconductor fabrication facilities under the CHIPS Incentives Program. The Final PEA addresses Federal financial assistance under the CHIPS Incentives Program for the proposed modernization or expansion of existing current-generation, mature-node, or leading-edge front- or back-end commercial semiconductor fabrication facilities within existing facility footprints.

ADDRESSES: The Final PEA and FONSI are available for review and download at https://www.nist.gov/chips/national-environmental-policy-act-nepa.

FOR FURTHER INFORMATION CONTACT: David Frenkel, NIST, telephone number 240-204-1960, email David.Frenkel@chips.gov.

SUPPLEMENTARY INFORMATION: NIST prepared the Final PEA in accordance with the National Environmental Policy Act (NEPA), 42 U.S.C. 4321 et seq., and the Council on Environmental Quality (CEQ) NEPA implementing regulations, 40 CFR parts 1500-1508. The Final PEA addresses Federal financial assistance for the proposed modernization or expansion of existing current-generation, mature-node, or leading-edge front- or back-end commercial semiconductor fabrication facilities within existing facility footprints (the Proposed Action).

Background

The Creating Helpful Incentives to Produce Semiconductors (CHIPS) for America Act in title XCIX of the William M. (Mac) Thornberry National Defense Authorization Act for Fiscal Year 2021 (Pub. L. 116-283), as amended by the CHIPS and Science Act of 2022 (Division A of Pub. L. 117-167) (together, the CHIPS Act or Act) authorized the CHIPS Incentives Program within the U.S. Department of Commerce. The Program, which is administered by the CHIPS Program Office (CPO) within NIST, an agency of the Department, aims to boost American semiconductor research, development, and production.

The CHIPS Incentives Program Commercial Fabrication Facilities Notice of Funding Opportunity (NOFO) was originally published in February 2023 and amended in June 2023. The NOFO solicits applications for the construction, expansion, or modernization of commercial facilities for the front- or back-end fabrication of leading-edge, current-generation, and mature-node semiconductors; commercial facilities for wafer manufacturing; and commercial facilities for materials used to manufacture semiconductors and semiconductor manufacturing equipment, provided that the capital investment equals or exceeds $300 million. The potential amount available under the NOFO is up to $38.22 billion for direct funding and up to $75 billion in direct loan or guaranteed principals. CPO is responsible for completion of the NEPA process before Federal financial assistance can be disbursed.

Final PEA

The purpose of the CHIPS Incentives Program in this area is to invest in U.S. production of strategically important semiconductors (“chips”) and ensure a sufficient, sustainable, and secure supply of older and current generation chips for national security purposes and critical manufacturing industries. As part of this effort, CPO aims to increase semiconductor manufacturing capacity and strengthen the security of the U.S. supply chain via the modernization of semiconductor production. The need for CPO's action in this area is to fulfill the agency's statutory responsibilities under the CHIPS Act, including the requirements of 15 U.S.C. 4652 to incentivize investment in facilities and equipment in the United States for the fabrication, assembly, testing, advanced packaging, production, or research and development of semiconductors, materials used to manufacture semiconductors, or semiconductor manufacturing equipment.

Under the Proposed Action, CPO would provide Federal financial assistance for the proposed modernization or expansion of existing current-generation, mature-node, or leading-edge front- or back-end commercial semiconductor fabrication facilities within existing facility footprints. Eligible projects would include the replacement or upgrade of existing fab equipment, the addition of new semiconductor manufacturing equipment, and the expansion of cleanroom space.

CPO published the Notice of Availability of the Draft PEA for public comment in the Federal Register on December 27, 2023.¹ CPO extended the 30-day public comment period by two weeks from January 25, 2024, to February 9, 2024.² CPO considered the public comments received on the Draft PEA and has responded to comments in Appendix E of the Final PEA. CPO has made revisions to the PEA in response to comments where appropriate.

¹ 88 FR 89372 (Dec. 27, 2023).

² 89 FR 6506 (Feb. 1, 2024).

Based on its analysis, CPO has determined that the Proposed Action to provide Federal financial assistance for the proposed modernization or expansion of existing current-generation, mature-node, or leading-edge front- or back-end commercial semiconductor fabrication facilities (or “fabs”) within existing fab facility footprints normally would not result in significant adverse environmental effects. Thus, preparation of a programmatic environmental impact statement (EIS) is not required, and CPO is issuing a FONSI for the Proposed Action.

Authority: This notice is provided pursuant to NEPA, 42 U.S.C. 4336(b)(2), and the NEPA implementing regulations, 40 CFR 1506.6.

Alicia Chambers,
NIST Executive Secretariat.

[FR Doc. 2024-14844 Filed 7-5-24; 8:45 am]

BILLING CODE 3510-13-P